DEPARTMENT OF VETERANS AFFAIRS

Compensation Cost-of-Living Adjustments for Service-Connected Benefits

AGENCY: Department of Veterans Affairs.

ACTION: Notice.

SUMMARY: As required by the Veterans' Compensation Cost-of-Living Adjustment Act of 2012, Public Law 112-198, the Department of Veterans Affairs (VA) is hereby giving notice of adjustments in certain benefit rates. These adjustments affect the compensation and dependency and indemnity compensation (DIC) programs.

DATES: These adjustments became effective on December 1, 2012, the date provided by Public Law 112-198.

FOR FURTHER INFORMATION CONTACT: Sarah Hill, Program Analyst, Compensation Services (212B), Veterans Benefits Administration, Department of Veterans Affairs, 810 Vermont Avenue, NW, Washington, DC 20420, (202) 461-1468.

SUPPLEMENTARY INFORMATION: Section 2 of Public Law 112-198 provides for an increase in each of the rates in sections 1114, 1115(1), 1162, 1311, 1313, and 1314 of title 38, United States Code. VA is required to increase these benefit rates by the same percentage as increases in the benefit amounts payable under title II of the Social Security Act. In computing increased rates in the cited title 38 sections, fractions of a dollar are rounded down to the nearest dollar. The increased rates are required to be published in the Federal Register.

The Social Security Administration has announced that there will be a 1.7 percent cost-of-living increase in Social Security benefits for 2013. Therefore, applying the same percentage, the following rates for VA compensation and DIC programs became effective on December 1, 2012:

Disability Compensation
[38 U.S.C. 1114]
Disability evaluation percent | Monthly rate
10 | $129
20 | 255
30 | 395
40 | 569
50 | 810
60 | 1,026
70 | 1,293
80 | 1,503
90 | 1,689
100 | 2,816
(38 U.S.C. 1114(k) through (s)):
38 U.S.C. 1114(k) | $100; 3,504; 100; 4,917
38 U.S.C. 1114(l) | 3,504
38 U.S.C. 1114(m) | 3,867
38 U.S.C. 1114(n) | 4,399
38 U.S.C. 1114(o) | 4,917
38 U.S.C. 1114(p) | 4,917
38 U.S.C. 1114(r) | 2,109; 3,142
38 U.S.C. 1114(s) | 3,152

Additional Compensation for Dependents
[38 U.S.C. 1115(1)]
38 U.S.C. 1115(1):
38 U.S.C. 1115(1)(A) | $157
38 U.S.C. 1115(1)(B) | 272; 78
38 U.S.C. 1115(1)(C) | 105; 78
38 U.S.C. 1115(1)(D) | 126
38 U.S.C. 1115(1)(E) | 301
38 U.S.C. 1115(1)(F) | 252

Clothing Allowance
[38 U.S.C. 1162]
$753 per year

DIC to a Surviving Spouse
[38 U.S.C. 1311]
Pay Grade:
E-1 | $1,215
E-2 | 1,215
E-3 | 1,215
E-4 | 1,215
E-5 | 1,215
E-6 | 1,215
E-7 | 1,257
E-8 | 1,327
E-9(1) | 1,384
W-1 | 1,283
W-2 | 1,334
W-3 | 1,373
W-4 | 1,453
O-1 | 1,283
O-2 | 1,327
O-3 | 1,418
O-4 | 1,503
O-5 | 1,654
O-6 | 1,865
O-7 | 2,013
O-8 | 2,211
O-9 | 2,365
O-10(2) | 2,594

(1) If the veteran served as sergeant major of the Army, senior enlisted advisor of the Navy, chief master sergeant of the Air Force, sergeant major of the Marine Corps, or master chief petty officer of the Coast Guard, the surviving spouse's monthly rate is $1,494.

(2) If the veteran served as Chairman or Vice Chairman of the Joint Chiefs of Staff, Chief of Staff of the Army, Chief of Naval Operations, Chief of Staff of the Air Force, Commandant of the Marine Corps, or Commandant of the Coast Guard, the surviving spouse's monthly rate is $2,784.

DIC to a Surviving Spouse
[38 U.S.C. 1311(a) through (f)]
| Monthly rate
38 U.S.C. 1311(a) through (f):
38 U.S.C. 1311(a)(1) | $1,215
38 U.S.C. 1311(a)(2) | 258
38 U.S.C. 1311(b) | 301
38 U.S.C. 1311(c) | 301
38 U.S.C. 1311(d) | 141
38 U.S.C. 1311(f) | 263

DIC to Children
[38 U.S.C. 1313]
38 U.S.C. 1313:
38 U.S.C. 1313(a)(1) | $513
38 U.S.C. 1313(a)(2) | 738
38 U.S.C. 1313(a)(3) | 963
38 U.S.C. 1313(a)(4) | 963; 183

Supplemental DIC to Children
[38 U.S.C. 1314]
38 U.S.C. 1314:
38 U.S.C. 1314(a) | $301
38 U.S.C. 1314(b) | 513
38 U.S.C. 1314(c) | 255

Approved: April 3, 2013.
Jose D. Riojas,
Interim Chief of Staff, Department of Veterans Affairs.

[FR Doc. 2013-08529 Filed 4-10-13; 8:45 am]

BILLING CODE 8320-01-P